DEPARTMENT OF ENERGY

Federal Energy Regulatory Commission

Combined Notice of Filings #1

Take notice that the Commission received the following electric corporate filings:

Docket Numbers: EC14-134-000.

Applicants: American Transmission Company LLC (ATC).

Description: Amendment to September 5, 2014 Application for Authority to Acquire Transmission Facilities Under Section 203 of the FPA of American Transmission Company LLC.

Filed Date: 9/25/14.

Accession Number: 20140925-5099.

Comments Due: 5 p.m. ET 10/6/14.

Docket Numbers: EC14-138-000.

Applicants: Montauk Energy Holdings, LLC, Bowerman Power LFG, LLC, McKinney LFG, LLC, Monmouth Energy, Inc., TX LFG Energy, LP, Toyon Landfill Gas Conversion, LLC, Tulsa LFG, LLC.

Description: Supplement to September 9, 2014 Application for Authorization under Section 203 of the Federal Power Act; Request for Expedited Consideration; and Request for Confidential Treatment of Montauk Energy Holdings, LLC, et al.

Filed Date: 9/25/14.

Accession Number: 20140925-5108.

Comments Due: 5 p.m. ET 10/6/14.

Docket Numbers: EC14-149-000.

Applicants: Apex Petroleum Corporation.

Description: Application of Apex Petroleum Corporation for Authorization under FPA Section 203 for the Disposition of Jurisdictional Facilities, Request for Expedited Consideration, Waivers and Confidential Treatment.

Filed Date: 9/25/14.

Accession Number: 20140925-5080.

Comments Due: 5 p.m. ET 10/16/14.

Take notice that the Commission received the following electric rate filings:

Docket Numbers: ER14-2308-001.

Applicants: Waterside Power, LLC.

Description: Compliance filing per 35: Supplement to Filing of Triennial Market Power Analysis for the NE Region to be effective 7/1/2014.

Filed Date: 9/25/14.

Accession Number: 20140925-5110.

Comments Due: 5 p.m. ET 10/16/14.

Docket Numbers: ER14-2465-001.

Applicants: RE Columbia Two LLC.

Description: Tariff Amendment per 35.17(b): Amendment to Baseline-Deficiency Response 092414 to be effective 9/7/2014.

Filed Date: 9/24/14.

Accession Number: 20140924-5147.

Comments Due: 5 p.m. ET 10/15/14.

Docket Numbers: ER14-2938-000.

Applicants: Pacific Gas and Electric Company.

Description: § 205(d) rate filing per 35.13(a)(2)(iii): Western Reclamation District 2035 DFA Filing to be effective 9/25/2014.

Filed Date: 9/24/14.

Accession Number: 20140924-5148.

Comments Due: 5 p.m. ET 10/15/14.

Docket Numbers: ER14-2939-000.

Applicants: Imperial Valley Solar Company (IVSC) 2, LLC.

Description: Initial rate filing per 35.12 Application for Initial Market-Based Rate Tariff and Granting Certain Waivers to be effective 11/24/2014.

Filed Date: 9/25/14.

Accession Number: 20140925-5013.

Comments Due: 5 p.m. ET 10/16/14.

Take notice that the Commission received the following qualifying facility filings:

Docket Numbers: QF14-787-000.

Applicants: Ken's Foods, Inc.

Description: Form 556 of Ken's Foods, Inc.

Filed Date: 9/24/14.

Accession Number: 20140924-5077.

Comments Due: None Applicable.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 25, 2014.
Nathaniel J. Davis, Sr.,
Deputy Secretary.

[FR Doc. 2014-23487 Filed 10-1-14; 8:45 am]

BILLING CODE 6717-01-P